DEPARTMENT OF ENERGY

Western Area Power Administration

Salt Lake City Area Integrated Projects Firm Power, Colorado River Storage Project Transmission and Ancillary Services Rates—Rate Order No. WAPA-137

AGENCY: Western Area Power Administration, DOE.

ACTION: Notice of Extension of Public Process for Rate Adjustment.

SUMMARY: Western initiated a public process to modify the Salt Lake City Area Integrated Projects (SLCA/IP) firm power rates and extend the Colorado River Storage Project (CRSP) transmission and ancillary services rates by publishing a notice in the Federal Register on January 4, 2008. Western held a Public Information Forum on February 5, 2008, and a Public Comment Forum on March 4, 2008.

Western is extending the comment and consultation period to allow sufficient time to finalize the 2010 Work Program Review (WPR), which forms the basis of the operation, maintenance and replacement (OM&R) expenses, to propose a two-step increase and to add clarification to the Spinning and Supplement Reserves (SP-SSR-3) rates. In conjunction with extending the comment and consultation period, Western will hold an additional public information forum and public comment forum on April 10, 2008. Information will be provided at this public information forum and also on the CRSP Management Center Web site under the “FY 2009 SLCA/IP Rate Adjustment” section located at: http://www.wapa.gov/CRSP/ratescrsp/default.htm.

Western mailed a brochure on January 11, 2008, that provided detailed information about the rates to all interested parties. The proposed rates in Rate Order No. WAPA-137 under Rate Schedules SLIP-F9, SP-PTP7, SP-NW3, SP-NFT6, SP-CF1, SP-SD3, SP-RS3, SP-EI3, SP-FR3, and SP-SSR3 are scheduled to go into effect on October 1, 2008.

DATES: The extended consultation and comment period begins today and will end May 5, 2008. A public information forum will be held on April 10, 2008, 1:30 p.m., at the Wallace F. Bennett Federal Building, Room 8102, 125 S. State Street, Salt Lake City, Utah. A public comment forum will follow the public information forum. Western will accept written comments any time during the consultation and comment period.

ADDRESSES: Send written comments to Mr. Bradley S. Warren, CRSP Manager, CRSP Management Center, Western Area Power Administration, 150 East Social Hall Avenue, Suite 300, Salt Lake City, UT 84111-1580; telephone (801) 524-5493; e-mail CRSPMCadj@wapa.gov. Western will post information about the rate process on its Web site under the “FY 2009 SLCA/IP Rate Adjustment” section located at: http://www.wapa.gov/CRSP/ratescrsp/default.htm.

Western will post official comments received by letter and e-mail to its Web site after the close of the comment period. Western must receive written comments by the end of the consultation and comment period to ensure consideration in Western's decision process.

FOR FURTHER INFORMATION CONTACT: Ms. Carol A. Loftin, Rates Manager, CRSP Management Center, Western Area Power Administration, 150 East Social Hall Avenue, Suite 300, Salt Lake City, UT 84111-1580; telephone (801) 524-6380; e-mail loftinc@wapa.gov.

SUPPLEMENTARY INFORMATION: The proposed rates for SLCA/IP firm power are designed to return an annual amount of revenue to meet the repayment of power investment, payment of interest, purchased power, OM&R expenses, and the repayment of irrigation assistance costs as required by law.

The Deputy Secretary of Energy approved Rate Schedule SLIP-F8 for firm power service on August 1, 2005. Rate Schedule SLIP-F8 became effective on October 1, 2005, for a 5-year period ending September 30, 2010. The Deputy Secretary of Energy also approved a rate extension for the CRSP Transmission and Ancillary Services Rates through September 30, 2010.

Discussion

Western's SLCA/IP Firm Power, CRSP Transmission and Ancillary Services rates entered into a rate adjustment process with a Federal Register notice published on January 4, 2008, which began the initial public consultation and comment period that would have ended on April 3, 2008. Western seeks an extension of the public process to provide additional time to finalize the 2010 WPR, which forms the basis of the OM&R expenses. The 2010 WPR shows significant increases in some program areas, and Western and the firm power customers need more time to evaluate these proposed increases. The customers are requesting Western consider a rate increase that is phased in over a 2-year period, and Western will provide options for customers' comments. In addition, Western is proposing to eliminate the reference to the “Western System Power Pool” in the Rate Schedule for Spinning and Supplement Reserves (SP-SSR-3) to make it consistent with the other regions within Western and to clarify better how those rates are determined. In conjunction with extending the comment and consultation period, Western will hold an additional public information and public comment forum.

Legal Authority

Since the proposed rates constitute a major rate adjustment as defined by 10 CFR part 903, Western has held both a public information forum and a public comment forum and, as indicated in this notice, will hold an additional public information and public comment forum. After a review of public comments and possible amendments or adjustments, Western will recommend a proposed rate for the Deputy Secretary of Energy to approve on an interim basis.

Western is establishing firm electric service rates for the SCLA/IP under the Department of Energy Organization Act (42 U.S.C. 7152); the Reclamation Act of 1902 (ch. 1093, 32 Stat. 388), as amended and supplemented by subsequent laws, particularly section 9(c) of the Reclamation Project Act of 1939 (43 U.S.C. 485h(c)); and other acts that specifically apply to the projects involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Commission. Existing Department of Energy (DOE) procedures for public participation in power rate adjustments (10 CFR part 903) were published on September 18, 1985.

Availability of Information

All brochures, studies, comments, letters, memorandums, or other documents that Western initiates or uses to develop the proposed rates are available for inspection and copying at the CRSP Management Center, 150 East Social Hall Avenue, Suite 300, Salt Lake City, Utah. Many of these documents and supporting information are also available on its Web site under the “FY 2009 SLCA/IP Rate Adjustment” section located at: http://www.wapa.gov/CRSP/ratescrsp/default.htm.

Regulatory Procedure Requirements

Environmental Compliance

In compliance with the National Environmental Policy Act of 1969 (NEPA) (42 U.S.C. 4321, et seq.); the Council on Environmental Quality Regulations for implementing NEPA (40 CFR parts 1500-1508); and DOE NEPA Implementing Procedures and Guidelines (10 CFR part 1021), Western has determined this action is categorically excluded from preparing an environmental assessment or an environmental impact statement.

Determination Under Executive Order 12866

Western has an exemption from centralized regulatory review under Executive Order 12866; accordingly, no clearance of this notice by the Office of Management and Budget is required.

Dated: March 14, 2008.
Timothy J. Meeks,
Administrator.

[FR Doc. E8-5868 Filed 3-21-08; 8:45 am]

BILLING CODE 6450-01-P